COMMISSION ON CIVIL RIGHTS

Notice of Public Meeting of the Nebraska Advisory Committee; Correction

AGENCY: Commission on Civil Rights.

ACTION: Notice; correction to meeting type.

SUMMARY: The Commission on Civil Rights published a notice in the Federal Register on Friday, June 16, 2023, concerning a meeting of the Nebraska Advisory Committee. The meeting type has since changed.

FOR FURTHER INFORMATION CONTACT: Victoria Moreno, vmoreno@usccr.gov.

Correction: In the Federal Register on Friday, June 16, 2023, in FR Document Number 2023-12875, on pages 39396-39397, first column, correct the meeting type to: Community Forum, Wednesday, August 9, 2023 from 1:00pm-4:00pm CST.

Dated: July 21, 2023.
David Mussatt,
Supervisory Chief, Regional Programs Unit.

[FR Doc. 2023-15885 Filed 7-26-23; 8:45 am]

BILLING CODE P